DEPARTMENT OF ENERGY

Federal Energy Regulatory Commission

Combined Notice of Filings—1

Take notice that the Commission has received the following Natural Gas Pipeline Rate and Refund Report filings:

Filings Instituting Proceedings

Docket Numbers: RP15-1302-000.

Applicants: Pine Needle LNG Company, LLC.

Description: Section 4(d) Rate Filing: PN_GT&C Section 25—1Line Service to be effective 10/30/2015.

Filed Date: 9/29/15.

Accession Number: 20150929-5089.

Comments Due: 5 p.m. ET 10/13/15.

Docket Numbers: RP15-1303-000.

Applicants: Empire Pipeline, Inc.

Description: Section 4(d) Rate Filing: Tuscarora Lateral Project (Empire CF) to be effective 11/1/2015

Filed Date: 9/29/15.

Accession Number: 20150929-5135.

Comments Due: 5 p.m. ET 10/13/15.

Docket Numbers: RP15-1304-000.

Applicants: Cheniere Creole Trail Pipeline, L.P.

Description: Section 4(d) Rate Filing: CCTPL Transportation Retainage Adjustment to be effective 11/1/2015.

Filed Date: 9/29/15.

Accession Number: 20150929-5136.

Comments Due: 5 p.m. ET 10/13/15.

Docket Numbers: RP15-1305-000.

Applicants: Kern River Gas Transmission Company.

Description: Section 4(d) Rate Filing: 2015 Daggett Surcharges Adjusted to be effective 11/1/2015.

Filed Date: 9/29/15.

Accession Number: 20150929-5140.

Comments Due: 5 p.m. ET 10/13/15.

Docket Numbers: RP15-1306-000.

Applicants: Panhandle Eastern Pipe Line Company, LP.

Description: Section 4(d) Rate Filing: Housekeeping Filing on 9-29-15 to be effective 11/1/2015.

Filed Date: 9/29/15.

Accession Number: 20150929-5156.

Comments Due: 5 p.m. ET 10/13/15.

Docket Numbers: RP15-1307-000.

Applicants: Trunkline Gas Company, LLC.

Description: Section 4(d) Rate Filing: Housekeeping on 9-29-15 to be effective 10/30/2015.

Filed Date: 9/29/15.

Accession Number: 20150929-5158.

Comments Due: 5 p.m. ET 10/13/15.

Docket Numbers: RP15-1308-000.

Applicants: Transcontinental Gas Pipe Line Company.

Description: Section 4(d) Rate Filing: 2015 LNG Fuel Tracker to be effective 11/1/2015.

Filed Date: 9/29/15.

Accession Number: 20150929-5198.

Comments Due: 5 p.m. ET 10/13/15

Docket Numbers: RP15-1309-000.

Applicants: Guardian Pipeline, L.L.C.

Description: Section 4(d) Rate Filing: Terminating Negotiated Rate PAL Agreements—Koch Energy Services, et al. to be effective 10/31/2015.

Filed Date: 9/29/15.

Accession Number: 20150929-5199.

Comments Due: 5 p.m. ET 10/13/15.

Docket Numbers: RP15-1311-000.

Applicants: Transcontinental Gas Pipe Line Company.

Description: Section 4(d) Rate Filing: Negotiated Rates—Cherokee AGL—Replacement Shippers—Oct 2015 to be effective 10/1/2015.

Filed Date: 9/29/15.

Accession Number: 20150929-5242.

Comments Due: 5 p.m. ET 10/13/15.

Docket Numbers: RP15-1312-000.

Applicants: Alliance Pipeline L.P.

Description: Section 4(d) Rate Filing: October 1—31 2015 Auction to be effective 10/1/2015.

Filed Date: 9/29/15.

Accession Number: 20150929-5244.

Comments Due: 5 p.m. ET 10/13/15.

Docket Numbers: RP15-1313-000.

Applicants: Columbia Gas Transmission, LLC.

Description: Section 4(d) Rate Filing: Negotiated & Non-Conforming ESE—SWN 145882 to be effective 10/1/2015.

Filed Date: 9/30/15.

Accession Number: 20150930-5000.

Comments Due: 5 p.m. ET 10/13/15.

Docket Numbers: RP15-1314-000.

Applicants: Equitrans, L.P.

Description: Section 4(d) Rate Filing: Negotiated Rate Agreement—EQT Energy effective 10-01-2015 to be effective 10/1/2015.

Filed Date: 9/30/15.

Accession Number: 20150930-5014.

Comments Due: 5 p.m. ET 10/13/15.

Docket Numbers: RP15-1315-000.

Applicants: Dominion Transmission, Inc.

Description: Section 4(d) Rate Filing: DTI—Index-Based Penalties to be effective 11/1/2015

Filed Date: 9/30/15

Accession Number: 20150930-5043

Comments Due: 5 p.m. ET 10/13/15.

Docket Numbers: RP15-1316-000.

Applicants: Dominion Transmission, Inc.

Description: Section 4(d) Rate Filing: DTI—2015 Annual EPCA to be effective 11/1/2015.

Filed Date: 9/30/15.

Accession Number: 20150930-5046.

Comments Due: 5 p.m. ET 10/13/15.

Docket Numbers: RP15-1317-000.

Applicants: East Tennessee Natural Gas, LLC.

Description: Section 4(d) Rate Filing: ETNG Cashout and Pooling Revisions to be effective 11/1/2015.

Filed Date: 9/30/15.

Accession Number: 20150930-5052.

Comments Due: 5 p.m. ET 10/13/15.

Docket Numbers: RP15-1318-000.

Applicants: Algonquin Gas Transmission, LLC.

Description: Compliance filing AGT 2015 OFO Penalty Disbursement Report.

Filed Date: 9/30/15.

Accession Number: 20150930-5054.

Comments Due: 5 p.m. ET 10/13/15.

Docket Numbers: RP15-1319-000.

Applicants: Northern Natural Gas Company.

Description: Section 4(d) Rate Filing: 20150930 Miscellaneous Filing to be effective 10/1/2015.

Filed Date: 9/30/15.

Accession Number: 20150930-5057.

Comments Due: 5 p.m. ET 10/13/15.

Docket Numbers: RP15-1320-000.

Applicants: El Paso Natural Gas Company, L.L.C.

Description: Section 4(d) Rate Filing: Negotiated Rate Agreement Update (APS Oct 2015) to be effective 10/1/2015.

Filed Date: 9/30/15.

Accession Number: 20150930-5061.

Comments Due: 5 p.m. ET 10/13/15.

Docket Numbers: RP15-1322-000.

Applicants: Sabine Pipe Line LLC.

Description: Section 4(d) Rate Filing: Sabine Pipe Line Section 4 Rate Case (2015) to be effective 11/1/2015.

Filed Date: 9/30/15.

Accession Number: 20150930-5060.

Comments Due: 5 p.m. ET 10/13/15.

Docket Numbers: RP15-1323-000.

Applicants: Dominion Transmission, Inc.

Description: Section 4(d) Rate Filing: DTI-2015 Annual TCRA to be effective 11/1/2015.

Filed Date: 9/30/15.

Accession Number: 20150930-5062.

Comments Due: 5 p.m. ET 10/13/15.

Docket Numbers: RP15-1324-000.

Applicants: Millennium Pipeline Company, LLC.

Description: Section 4(d) Rate Filing: Revisions to Agreement Forms to be effective 11/1/2015.

Filed Date: 9/30/15.

Accession Number: 20150930-5078.

Comments Due: 5 p.m. ET 10/13/15.

Docket Numbers: RP15-1325-000.

Applicants: Dominion Carolina Gas Transmission, LLC.

Description: Section 4(d) Rate Filing: PEG Non-Conforming Agreement Tariff Filing to be effective 10/1/2015.

Filed Date: 9/30/15.

Accession Number: 20150930-5087.

Comments Due: 5 p.m. ET 10/13/15.

Docket Numbers: RP15-1326-000.

Applicants: Kern River Gas Transmission Company.

Description: Section 4(d) Rate Filing: 2015 Anadarko to CRC to be effective 9/30/2015.

Filed Date: 9/30/15.

Accession Number: 20150930-5112.

Comments Due: 5 p.m. ET 10/13/15.

Docket Numbers: RP15-1327-000.

Applicants: Maritimes & Northeast Pipeline, L.L.C.

Description: Compliance filing MNUS FRQ 2015 Filing to be effective N/A.

Filed Date: 9/30/15.

Accession Number: 20150930-5125.

Comments Due: 5 p.m. ET 10/13/15.

Docket Numbers: RP15-1328-000.

Applicants: Texas Eastern Transmission, LP.

Description: Section 4(d) Rate Filing: Negotiated Rate—Emera 911294 to be effective 11/1/2015.

Filed Date: 9/30/15.

Accession Number: 20150930-5127.

Comments Due: 5 p.m. ET 10/13/15.

Docket Numbers: RP15-1329-000.

Applicants: Kern River Gas Transmission Company.

Description: Section 4(d) Rate Filing: 2015 Chevron to SWG to be effective 9/30/2015.

Filed Date: 9/30/15.

Accession Number: 20150930-5139.

Comments Due: 5 p.m. ET 10/13/15.

Docket Numbers: RP15-1331-000.

Applicants: Texas Eastern Transmission, LP.

Description: Compliance filing OPEN Project 11-1-2015 In-Service NonConf Compliance—CP14-68 to be effective 11/1/2015.

Filed Date: 9/30/15.

Accession Number: 20150930-5201.

Comments Due: 5 p.m. ET 10/13/15.

Docket Numbers: RP15-1332-000.

Applicants: El Paso Natural Gas Company, L.L.C.

Description: Section 4(d) Rate Filing: Non-Conforming Agreement Filing (Mex Gas, SWG) to be effective 11/1/2015.

Filed Date: 9/30/15.

Accession Number: 20150930-5236.

Comments Due: 5 p.m. ET 10/13/15.

Docket Numbers: RP15-1333-000.

Applicants: Natural Gas Pipeline Company of America.

Description: Penalty Revenue Crediting Report of Natural Gas Pipeline Company of America LLC under RP15-1333.

Filed Date: 9/30/15.

Accession Number: 20150930-5265.

Comments Due: 5 p.m. ET 10/13/15.

Docket Numbers: RP15-1334-000.

Applicants: Young Gas Storage Company, Ltd.

Description: Operational Purchases and Sales Report of Young Gas Storage Company, Ltd. under RP15-1334.

Filed Date: 9/30/15.

Accession Number: 20150930-5266.

Comments Due: 5 p.m. ET 10/13/15.

Docket Numbers: RP15-1335-000.

Applicants: Wyoming Interstate Company, L.L.C.

Description: Operational Purchases and Sales Report of Wyoming Interstate Company, L.L.C. under RP15-1335.

Filed Date: 9/30/15.

Accession Number: 20150930-5267.

Comments Due: 5 p.m. ET 10/13/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 6, 2015.
Nathaniel J. Davis, Sr.,
Deputy Secretary.

[FR Doc. 2015-26113 Filed 10-13-15; 8:45 am]

BILLING CODE 6717-01-P